DEPARTMENT OF COMMERCE

International Trade Administration

A-570-894

Certain Tissue Paper Products from the People's Republic of China: Extension of Time Limit for Preliminary Results of the First Administrative Review

AGENCY: Import Administration, International Trade Administration, Department of Commerce.

EFFECTIVE DATE: January 23, 2007.

FOR FURTHER INFORMATION CONTACT: Kristina Horgan or Bobby Wong, AD/CVD Operations, Office 9, Import Administration, International Trade Administration, U.S. Department of Commerce, 14th Street and Constitution Avenue, NW, Washington, DC 20230; telephone: (202) 482-8173, or (202) 482-0409, respectively.

SUPPLEMENTARY INFORMATION:

Background

On April 28, 2006, the Department of Commerce (the Department) initiated an administrative review of the antidumping duty order on certain tissue paper from the People's Republic of China (PRC) for the period September 21, 2004, to February 28, 2006. Initiation of Antidumping and Countervailing Duty Administrative Reviews, 71 FR 25145 (April 28, 2006).

On October 24, 2006, in accordance with section 751(a)(3)(A) of the Tariff Act of 1930, as amended (the Act), and 19 CFR 351.213(h)(2), the Department extended the deadline for the preliminary results of review until February 16, 2007. See Certain Tissue Paper Products from the People's Republic of China: Extension of Time Limit for Preliminary Results of the First Administrative Review, 71 FR 62249 (October 24, 2006).

On November 6, 2006, the Department reopened the record of the instant review to allow interested parties to submit new factual information. See “Letter To All Interested Parties from James C. Doyle RE: First Administrative Review of Certain Tissue Paper Products from the People's Republic of China,” dated November 6, 2006. On December 22, 2006, the petitioner submitted a revised, final bracketed version of its timely filed November 13, 2006 submission, which contained comments regarding the Sansico Group's claim of no shipments.¹ On January 3, 2007, the Sansico Group timely filed comments addressing the petitioner's December 22, 2006, submission.

¹ The Sansico Group claimed it had no shipments of subject merchandise during the POR in a submission dated May 22, 2006.

Extension of Time Limits for Preliminary Results

Section 751(a)(3)(A) of the Act, and 19 CFR 351.213(h)(1) require the Department to issue the preliminary results of an administrative review within 245 days after the last day of the anniversary month of the order for which the administrative review was requested, and the final results of the review within 120 days after the date on which the notice of the preliminary results was published in the Federal Register. However, if the Department determines that it is not practicable to complete the review within this time period, section 751(a)(3)(A) of the Act and 19 CFR 351.213(h)(2) allow the Department to extend the 245-day period to 365 days and the 120-day period to 180 days.

We determine that it is not practicable to complete this administrative review by February 16, 2007. The Department requires additional time to review the recent comments regarding the Sansico Group's claim of no shipments in the instant review. Therefore, in accordance with section 751(a)(3)(A) of the Act and 19 CFR 351.213(h)(2), the Department is extending the time limit for the completion of these preliminary results by an additional 43 days to April 2, 2007, which is the first business day after the additional 43-day extension. The final results, in turn, will be due 120 days after the date of issuance of the preliminary results, unless extended.

This notice is issued and published in accordance with sections 751(a)(3)(A) and 777(i)(1) of the Act.

Dated: January 12, 2007.
Stephen J. Claeys,
Deputy Assistant Secretary for Import Administration.

[FR Doc. E7-869 Filed 1-22-07; 8:45 am]

BILLING CODE 3510-DS-S